DEPARTMENT OF TRANSPORTATION

Maritime Administration

[Docket No. MARAD 2017-0079]

Sexual Assault Prevention and Response Request for Public Input

AGENCY: Maritime Administration, Department of Transportation.

ACTION: Notice and request for comments.

SUMMARY: The Maritime Administration (MARAD) invites public comment on methods to improve the prevention of, and response to sexual harassment, sexual assault, or other inappropriate conduct, as well as methods to improve the shipboard climate during the United States Merchant Marine Academy Midshipman Sea Year experience. The purpose of this public notice is to gather comments to assist in the development of a statutorily mandated report to Congress with actionable recommendations.

DATES: The deadline to submit comments is June 30, 2017. See Submitting Your Comments and Opinions below for specific directions.

ADDRESSES: Comments should refer to the docket number above and submitted by one of the following methods:

• Federal Rulemaking Portal: http://www.regulations.gov/. Follow the online instruction for submitted comments.

• Mail: Docket Management Facility, U.S. Department of Transportation, 1200 New Jersey Avenue SE., West Building Ground Floor, Room W12-140, Washington, DC 20590-0001.

• Hand Delivery: 1200 New Jersey Avenue SE., West Building Ground Floor, Room W12-140, Washington, DC, between 9 a.m. and 5 p.m. ET, Monday through Friday, except Federal Holidays.

FOR FURTHER INFORMATION CONTACT: Paul Gilmour, Acting Deputy Director, Office of Training Ships, Innovation, and Outreach, Maritime Administration, 1200 New Jersey Avenue, Washington, DC 20590; (202) 366-1882; email: Paul.Gilmour@dot.gov.

SUPPLEMENTARY INFORMATION:

Background

Section 3513 of the National Defense Authorization Act for Fiscal Year 2017 (NDAA) requires MARAD to convene a Sexual Assault Prevention and Response Working Group (SAPR) that will prepare a report to Congress. The statute requires the SAPR Working Group to examine methods to improve the prevention of, and response to, sexual harassment, sexual assault, or other inappropriate conduct, as well as methods to improve the shipboard climate, particularly in the context of the Sea Year experience of United States Merchant Marine Academy cadets. To assist in the process, MARAD is seeking public input to focus on the following seven (7) issues:

1. Options that could promote a climate of honor and respect, and a culture that is intolerant of sexual harassment, sexual assault, or other inappropriate conduct and those who commit it, with operators of vessels of the United States;

2. Strategies to raise awareness of sexual harassment, sexual assault, or other inappropriate conduct with operators of vessels of the United States;

3. Options that could be implemented by the operators of vessels of the United States that would remove any barriers to the reporting of sexual harassment, sexual assault, or other inappropriate conduct that occurs during a cadet's Sea Year experience and protect the victim's confidentiality;

4. Potential program or policy to improve the prevention of, and response to, incidents of sexual harassment, sexual assault, or other inappropriate conduct;

5. Potential program or policy requiring crews to complete a sexual harassment and sexual assault prevention and response training program before the cadet's Sea Year that includes—

(A) fostering a shipboard climate—

(i) that does not tolerate sexual harassment, sexual assault, or other inappropriate conduct;

(ii) in which persons assigned to vessel crews are encouraged to intervene to prevent such potential incidents; and

(iii) that encourages victims to report any incident of sexual harassment, sexual assault, or other inappropriate conduct; and

(B) promoting an understanding of the needs of, and the resources available to, a victim after an incident of sexual harassment, sexual assault, or other inappropriate conduct;

6. Other feasible changes to Sea Year training at the Academy, and corresponding changes to curricula, to improve prevention of and response to incidents of sexual harassment, sexual assault, and other inappropriate conduct; and

7. How vessel operators could ensure the confidentiality of a report of sexual harassment, sexual assault, or other inappropriate conduct in order to protect the victim and prevent retribution.

Submitting Your Comments and Opinions

1. We have opened a docket at http://www.regulations.gov to allow for submission of written comments for consideration by the SAPR.

2. You may submit your inputs identified by DOT Docket Number MARAD-2017-0079 by any of the following methods: Web site/Federal eRulemaking Portal, Fax, Mail or Hand Delivery. Please use only one of these means for each submission. All submissions must include the agency name and docket number for this matter. Specific instructions follow.

3. For the Web site/Federal eRulemaking Portal, go to http://www.regulations.gov. Follow the instructions for submitting comments on the electronic docket site. To submit your input, type the docket number (MARAD-2017-0079) in the “SEARCH” box and click “SEARCH.” Click on “Submit a Comment” on the line associated with this Docket Number. If you submit comment via www.regulations.gov, please note that inputs submitted to www.regulations.gov are not immediately posted to the site. It may take several business days before your submission will be posted on the electronic docket.

4. For submission by telefacsimile/FAX, transmit your agenda topic, comment or idea to (202) 493-2251. Be sure to identify the submission by DOT Docket Number MARAD-2017-0079.

5. Submissions by Mail or Hand Delivery should go to Docket Management Facility, U.S. Department of Transportation, 1200 New Jersey Avenue SE., West Building, Room W12-140, Washington, DC 20590, between 9:00 a.m. and 5:00 p.m., Monday through Friday, except on Federal holidays. If you submit your inputs by mail or hand delivery, submit them in an unbound format, no larger than 8½ by 11 inches, suitable for copying and electronic filing. If you submit comments by mail and would like to know that they reached the Facility, please enclose a stamped, self-addressed postcard or envelope.

6. If you FAX, mail, or hand deliver your input we recommend that you include your name and a mailing address, an email address, or a telephone number in the body of your document so that we can contact you if we have questions regarding your submission.

7. Note: All comments submitted for this purpose, including any personal information provided, will be posted without change to http://www.regulations.gov.

8. For access to the docket to read background documents or inputs received, go to http://www.regulations.gov at any time or to Room W12-140 of the Department of Transportation, 1200 New Jersey Avenue SE., Washington, DC 20590, between 9:00 a.m. and 5:00 p.m., Monday through Friday, except Federal Holidays. To view the docket electronically, type the docket number “MARAD-2017-0079” in the “SEARCH” box and click “Search.” Click and Open Docket Folder on the line associated with this rulemaking.

Privacy Act

In accordance with 5 U.S.C. 553(c), DOT solicits comments from the public to better inform its rulemaking process. DOT posts these comments, without edit, to www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 5 U.S.C. 610; E.O. 13563, 76 FR 3821, Jan. 21 2011; E.O. 12866, 58 FR 51735, Oct. 4, 1993.

By Order of the Executive Director.
Dated: April 25, 2017.
T. Mitchell Hudson, Jr.,
Secretary, Maritime Administration.

[FR Doc. 2017-08685 Filed 4-28-17; 8:45 am]

BILLING CODE 4910-81-P